DEPARTMENT OF THE INTERIOR

Bureau of Indian Affairs

[212A2100DD/AAKC001030/A0A501010.999900 253G; OMB Control Number 1076-0190]

Agency Information Collection Activities; Submission to the Office of Management and Budget for Review and Approval; Indian Highway Safety Grants

AGENCY: Bureau of Indian Affairs, Interior.

ACTION: Notice of information collection; request for comment.

SUMMARY: In accordance with the Paperwork Reduction Act of 1995, we, the Bureau of Indian Affairs (BIA), are proposing to renew an information collection with revisions.

DATES: Interested persons are invited to submit comments on or before October 20, 2021.

ADDRESSES: Written comments and recommendations for the proposed information collection should be sent within 30 days of publication of this notice to www.reginfo.gov/public/do/PRAMain. Find this particular information collection by selecting “Currently under Review—Open for Public Comments” or by using the search function. Please provide a copy of your comments to Ms. Kimberly Belone, Indian Highway Safety Program Coordinator, 1001 Indian School Road NW, Albuquerque, NM 87104; or by email to Kimberly.belone@bia.gov. Please reference OMB Control Number 1076-0190 in the subject line of your comments.

FOR FURTHER INFORMATION CONTACT: To request additional information about this ICR, contact L.G. Robertson, Indian Highway Program Director, 1001 Indian School Road NW, Albuquerque, NM 87104 by email at Lawrence.robertson@bia.gov, or by telephone at 505-563-3780. Individuals who are hearing or speech impaired may call the Federal Relay Service at 1-800-877-8339 for TTY assistance. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on May 13, 2021 (86 FR 26231). No comments were received.

We are again soliciting comments on the proposed ICR that is described below. We are especially interested in public comment addressing the following issues: (1) Is the collection necessary to the proper functions of the BIA; (2) will this information be processed and used in a timely manner; (3) is the estimate of burden accurate; (4) how might the BIA enhance the quality, utility, and clarity of the information to be collected; and (5) how might the BIA minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: This information is collected from Tribal entities concerning population, land base, highway miles and statistical data concerning vehicle fatalities, crashes, traffic enforcement actions and proposed financial data. This data collected is a requirement for the BIA Indian Highway Safety Program (IHSP) to fulfil the data obligations of 23 CFR 1300.11 and will be used for review and consideration by the IHSP Selection Committee for consideration of grant awards.

Proposed Revisions to This Information Collection

Travel & Training Form: New form for registration and travel expense reimbursements based on actual travel costs, not to exceed the Federal travel regulations.

Child Passenger Safety Seat Grant Application: Minor revisions to format, content, and instructions.

Law Enforcement Grant Application: Minor revisions to format, content, and instructions.

Title of Collection: Indian Highway Safety Grants.

OMB Control Number: 1076-0190.

Form Number: None.

Type of Review: Revision of a currently approved collection.

Respondents/Affected Public: Tribal governments.

Total Estimated Number of Annual Respondents: 485 per year, on average.

Total Estimated Number of Annual Responses: 2,256 per year, on average.

Estimated Completion Time per Response: For applications, 4 hours, on average; for monthly reports, 3-11 hours, on average; and for annual reports, 5-9 hours, on average.

Total Estimated Number of Annual Burden Hours: 15,316 on average.

Respondent's Obligation: Required to obtain or retain a benefit.

Frequency of Collection: Annually for grant applications and annual reports; monthly for reports.

Total Estimated Annual Nonhour Burden Cost: None.

An agency may not conduct or sponsor and a person is not required to respond to a collection of information unless it displays a currently valid OMB control number.

The authority for this action is the Paperwork Reduction Act of 1995 (44 U.S.C. 3501 et seq.).

Elizabeth K. Appel,
Director, Office of Regulatory Affairs and Collaborative Action—Indian Affairs.

[FR Doc. 2021-20257 Filed 9-17-21; 8:45 am]

BILLING CODE 4337-15-P